DEPARTMENT OF ENERGY

Fusion Energy Sciences Advisory Committee

AGENCY: Office of Science, Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: January 31, 2013—9:00 a.m. to 6:00 p.m.

ADDRESSES: Hilton Gaithersburg, 620 Perry Parkway, Gaithersburg, MD 20877.

FOR FURTHER INFORMATION CONTACT: Edmund J. Synakowski, Designated Federal Officer, Office of Fusion Energy Sciences; U.S. Department of Energy; 1000 Independence Avenue SW.; Washington, DC 20585-1290; Telephone: (301) 903-4941.

SUPPLEMENTARY INFORMATION: Purpose of the Meeting: To complete the charge given to the Committee in the letter from the Director, Office of Science, dated April 13, 2012, to the FESAC Chair asking an assessment by FESAC of priorities among and within the elements of the magnetic fusion energy science program.

Tentative Agenda:

• FES Perspectives, including Briefing on the new Facilities Prioritization Charge.

• Briefing on the final report from the Subcommittee on Magnetic Fusion Energy Program Priorities.

• Presentation on the EU Pathway/DEMO Studies.

• Discussions of the Report from the Subcommittee on MFE Program Priorities.

Public Participation: The meeting is open to the public. If you would like to file a written statement with the Committee, you may do so either before or after the meeting. If you would like to make oral statements regarding any of the items on the agenda, you should contact Dr. Ed Synakowski at 301-903-8584 (fax) or Ed.synakowski@science.doe.gov (email). Reasonable provision will be made to include the scheduled oral statements during the Public Comments time on the agenda. The Chairperson of the Committee will conduct the meeting to facilitate the orderly conduct of business. Public comment will follow the 10-minute rule.

Minutes: The minutes of the meeting will be available for public review and copying within 45 days on the Fusion Energy Sciences Advisory Committee Web site at: http://www.science.doe.gov/ofes/fesac.shtml.

Issued at Washington, DC, on January 4, 2013.
LaTanya R. Butler,
Deputy Committee Management Officer.

[FR Doc. 2013-00330 Filed 1-9-13; 8:45 am]

BILLING CODE 6450-01-P